DEPARTMENT OF HOMELAND SECURITY

Federal Emergency Management Agency

[Docket ID FEMA-2024-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Nicholas A. Shufro,
Assistant Administrator (Acting) for Risk Management, Federal Emergency Management Agency, Department of Homeland Security.

State and county | Location and case No. | Chief executive officer of community | Community map repository | Date of modification | Community No.
Alabama: Walker (FEMA Docket No.: B-2418). | Unincorporated areas of Walker County (23-04-3571P). | Steve Miller, Chair, Walker County Commission, 1801 3rd Avenue South, Suite 113, Jasper, AL 35501. | Walker County Commission, 1801 3rd Avenue South Suite 113, Jasper, AL 35501. | Apr. 19, 2024 | 010301
Colorado:
Boulder (FEMA Docket No.: B-2401). | City of Lafayette (23-08-0459P). | The Honorable J. D. Mangat, Mayor, City of Lafayette, 1290 South Public Road, Lafayette, CO 80026. | Planning Department, 1290 South Public Road, Lafayette, CO 80026. | Apr. 15, 2024 | 080026
Boulder (FEMA Docket No.: B-2401). | Unincorporated areas of Boulder County (23-08-0459P). | Claire Levy, Chair, Boulder County Board of Commissioners, P.O. Box 471, Boulder, CO 80306. | Boulder County Transportation Department, 1739 Broadway, Suite 300, Boulder, CO 80306. | Apr. 15, 2024 | 080023
Broomfield (FEMA Docket No.: B-2401). | City and County of Broomfield (23-08-0459P). | The Honorable Guyleen Castriotta, Mayor, City and County of Broomfield, 1 DesCombes Drive, Broomfield, CO 80020. | Engineering Department, 1 DesCombes Drive, Broomfield, CO 80020. | Apr. 15, 2024 | 085073
Florida:
Charlotte (FEMA Docket No.: B-2407). | Unincorporated areas of Charlotte County (22-04-3269P). | Bill Truex, Chair, Charlotte County Board of Commissioners, 18500 Murdock Circle, Suite 536, Port Charlotte, FL 33948. | Charlotte County Building Department, 18400 Murdock Circle, Port Charlotte, FL 33948. | Apr. 2, 2024 | 120061
Charlotte (FEMA Docket No.: B-2411). | Unincorporated areas of Charlotte County (23-04-6087P). | Bill Truex, Chair, Charlotte County Board of Commissioners, 18500 Murdock Circle, Suite 536, Port Charlotte, FL 33948. | Charlotte County Building Department, 18400 Murdock Circle, Port Charlotte, FL 33948. | Apr. 8, 2024 | 120061
Lee (FEMA Docket No.: B-2411). | City of Fort Myers (23-04-3576P). | Marty Lawing, City of Fort Myers Manager, 2200 2nd Street, Fort Myers, FL 33901. | Building Department, 1825 Hendry Street, Fort Myers, FL 33901. | Apr. 15, 2024 | 125106
Lee (FEMA Docket No.: B-2411). | Unincorporated areas of Lee County (23-04-3576P). | David Harner, Lee County Manager, P.O. Box 398, Fort Myers, FL 33902. | Lee County Building Department, 1500 Monroe Street, Fort Myers, FL 33901. | Apr. 15, 2024 | 125124
Sarasota (FEMA Docket No.: B-2401). | City of Sarasota (23-04-4295P). | The Honorable Kyle Scott Battie, Mayor, City of Sarasota, 1565 1st Street, Room 101, Sarasota, FL 34236. | Development Service Department, 1565 1st Street, Room 101, Sarasota, FL 34236. | Mar. 27, 2024 | 125150
Georgia:
Cobb (FEMA Docket No.: B-2407). | City of Smyrna (23-04-2440P). | The Honorable Derek Norton, Mayor, City of Smyrna, 2800 King Street, Smyrna, GA 30080. | Engineering Department, 2190 Atlanta Road, Smyrna, GA 30080. | Apr. 2, 2024 | 130057
Fulton (FEMA Docket No.: B-2407). | City of Atlanta (23-04-2440P). | The Honorable Andre Dickens, Mayor, City of Atlanta, 5563 Trinity Avenue Southwest, Atlanta, GA 30303. | City Hall, 5563 Trinity Avenue Southwest, Atlanta, GA 30303. | Apr. 2, 2024 | 135157
Maine: Lincoln (FEMA Docket No.: B-2411). | Town Boothbay Harbor (23-01-0799P). | Julia Latter, Town Boothbay Harbor Manager, 11 Howard Street, Boothbay Harbor, ME 04538. | Code Enforcement Department, 11 Howard Street, Boothbay Harbor, ME 04538. | Apr. 12, 2024 | 230213
Massachusetts:
Essex (FEMA Docket No.: B-2407). | City of Gloucester (23-01-0759P). | The Honorable Greg Varga, Mayor, City of Gloucester, 9 Dale Avenue, Gloucester, MA 01930. | City Hall, 3 Pond Road, 2nd Floor, Gloucester, MA 01930. | Apr. 8, 2024 | 250082
Massachusetts: Essex (FEMA Docket No.: B-2411). | City of Gloucester (24-01-0023P). | The Honorable Greg Varga, Mayor, City of Gloucester, 9 Dale Avenue, Gloucester, MA 01930. | City Hall, 3 Pond Road, 2nd Floor, Gloucester, MA 01930. | Mar. 29, 2024 | 250082
Montana: Lewis and Clark (FEMA Docket No.: B-2401). | Unincorporated areas of Lewis and Clark County (23-08-0467P). | Tom Rolfe, Chair, Lewis and Clark County Board of Commissioners, 316 North Park Avenue, Room 345, Helena, MT 59623. | Lewis and Clark County Department of Floodplain Development, 316 North Park Avenue, Room 230, Helena, MT 59623. | Apr. 8, 2024 | 300038
North Carolina:
Alamance (FEMA Docket No.: B-2407). | City of Burlington (24-04-0520P). | The Honorable James B. Butler, Mayor, City of Burlington, P.O. Box 1358, Burlington, NC 27216. | Engineering Department, 425 South Lexington Avenue, Burlington, NC 27215. | Apr. 5, 2024. | 370002
Madison (FEMA Docket No.: B-2424). | Unincorporated areas of Madison County (23-04-3517X). | Matthew Wechtel, Chair, Madison County Board of Commissioners, P.O. Box 573, Marshall, NC 28753. | Madison County Development Services Department 5707 U.S. Highway 25/70, Marshall, NC 28753. | Mar. 18, 2024 | 370152
Orange (FEMA Docket No.: B-2407). | Town of Chapel Hill (23-04-0988P). | The Honorable Jessica Anderson, Mayor, Town of Chapel Hill, 405 Martin Luther King Jr. Boulevard, Chapel Hill, NC 27514. | Planning Department, 405 Martin Luther King Jr. Boulevard, Chapel Hill, NC 27514. | Apr. 11, 2024 | 370180
Union (FEMA Docket No.: B-2407). | Unincorporated areas of Union County (24-04-0519P) | J. R. Rowell, Chair, Union County Board of Commissioners 500 North Main Street, Suite 914, Monroe, NC 28112. | Union County Planning and Development Department, 500 North Main Street, Suite 70, Monroe, NC 28112. | Apr. 8, 2024 | 370234
Wake (FEMA Docket No.: B-2401). | Town of Rolesville (24-04-0517P). | The Honorable Ronnie Currin, Mayor, Town of Rolesville, P.O. Box 250, Rolesville, NC 27571. | Planning Department 502 Southtown Circle, Rolesville, NC 27571. | Apr. 11, 2024 | 370468
Wake (FEMA Docket No.: B-2401). | Town of Wake Forest (24-04-0517P). | The Honorable Vivian A. Jones, Mayor, Town of Wake Forest, 301 South Brooks Street Wake Forest, NC 27587. | Planning Department 301 South Brooks Street, Lake Forest, NC 27587. | Apr. 11, 2024 | 370244
Wake (FEMA Docket No.: B-2401). | Unincorporated areas of Wake County (24-04-0517P). | Shinica Thomas, Chair, Wake County Board of Commissioners, P.O. Box 550, Raleigh, NC 27602. | Wake County Environmental Services Department 337 South Salisbury Street, Raleigh, NC 27601. | Apr. 11, 2024 | 370368
Texas:
Bexar (FEMA Docket No.: B-2411). | City of San Antonio (23-06-1883P). | The Honorable Ron Nirenberg, Mayor, City of San Antonio, P.O. Box 839966, San Antonio, TX 78283. | Public Works Department, Storm Water Division, 1901 South Alamo Street, 2nd Floor, San Antonio, TX 78204. | Apr. 8, 2024 | 480045
Brazos (FEMA Docket No.: B-2407). | City of Bryan (23-06-2310P). | The Honorable Bobby Gutierrez, Mayor, City of Bryan, P.O. Box 1000, Bryan, TX 77805. | City Hall, 300 South Texas Avenue, Bryan, TX 77805. | Mar. 27, 2024 | 480082
Collin (FEMA Docket No.: B-2401). | City of McKinney (23-06-1123P). | The Honorable George Fuller, Mayor, City of McKinney, 222 North Tennessee Street, McKinney, TX 75069. | City Hall, 222 North Tennessee Street, McKinney, TX 75069. | Apr. 1, 2024 | 480135
Collin (FEMA Docket No.: B-2401). | City of Murphy (23-06-1486P). | The Honorable Scott Bradley, Mayor, City of Murphy, 206 North Murphy Road, Murphy, TX 75094. | City Hall, 206 North Murphy Road, Murphy, TX 75094. | Mar. 29, 2024 | 480137
Collin (FEMA Docket No.: B-2407). | City of Plano (23-06-1831P). | The Honorable John B. Muns, Mayor, City of Plano, 1520 K Avenue, Plano, TX 75074. | Engineering Department, 1520 K Avenue, Plano, TX 75074. | Apr. 15, 2024 | 480140
Comal (FEMA Docket No.: B-2407). | Unincorporated areas of Comal County (23-06-1468P). | The Honorable Sherman Krause, Comal County Judge, 150 North Seguin Avenue, New Braunfels, TX 78130. | Comal County Courthouse, 150 North Seguin Avenue, New Braunfels, TX 78130. | Apr. 12, 2024 | 485463
Dallas (FEMA Docket No.: B-2401). | City of Mesquite (23-06-1636P). | The Honorable Daniel Alemán, Jr., Mayor, City of Mesquite, P.O. Box 850137, Mesquite, TX 75185. | City Hall, 757 North Galloway Avenue, Mesquite, TX 75149. | Apr. 8, 2024 | 485490
Denton (FEMA Docket No.: B-2407). | City of Frisco (23-06-1466P). | The Honorable Jeff Cheney, Mayor, City of Frisco, 6101 Frisco Square Boulevard, Frisco, TX 75034. | George A. Purefoy Municipal Center, 6101 Frisco Square Boulevard, Frisco, TX 75034. | Apr. 15, 2024 | 480134
Ellis (FEMA Docket No.: B-2411). | City of Grand Prairie (23-06-2587P). | The Honorable Ron Jensen, Mayor, City of Grand Prairie, P.O. Box 534045, Grand Prairie, TX 75053. | City Hall, 300 West Main Street, Grand Prairie, TX 75050. | Apr. 15, 2024 | 485472
Harris (FEMA Docket No.: B-2407). | Unincorporated areas of Harris County (23-06-0151P). | The Honorable Lina Hidalgo, Harris County Judge, 1001 Preston Street, Suite 911, Houston, TX 77002. | Harris County Permit Office, 1111 Fannin Street, 8th Floor, Houston, TX 77002. | Apr. 15, 2024 | 480287
Hays (FEMA Docket No.: B-2411). | Unincorporated areas of Hays County (23-06-1564P). | The Honorable Ruben Becerra, Hays County Judge, 111 East San Antonio Street, Suite 300, San Marcos, TX 78666. | Hays County Development Services Department, 2171 Yarrington Road, Suite 100, Kyle, TX 78640. | Apr. 11, 2024 | 480321
Midland (FEMA Docket No.: B-2401). | City of Midland (23-06-1759P). | The Honorable Lori Blong, Mayor, City of Midland, 300 North Loraine Street, Midland, TX 79701. | Engineering Department, 300 North Loraine Street, Midland, TX 79701. | Apr. 4, 2024 | 480477
Tarrant (FEMA Docket No.: B-2411). | City of Fort Worth (23-06-1421P). | The Honorable Mattie Parker, Mayor, City of Fort Worth, 200 Texas Street, Fort Worth, TX 76102. | Department of Transportation and Public Works, Engineering Vault and Map Repository, 200 Texas Street, Fort Worth, TX 76102. | Apr. 8, 2024 | 480596
Tarrant (FEMA Docket No.: B-2411). | City of Mansfield (23-06-0492P). | The Honorable Michael Evans, Mayor, City of Mansfield, 1200 East Broad Street, Mansfield, TX 76063. | City Hall, 1200 East Broad Street, Mansfield, TX 76063. | Apr. 4, 2024 | 480606
Travis (FEMA Docket No.: B-2407). | City of Jonestown (23-06-1536P). | The Honorable Paul Johnson, Mayor, City of Jonestown, 18649 F.M. 1431, Suite 4A, Jonestown, TX 78645. | City Hall, 18649 F.M. 1431, Suite 4A, Jonestown, TX 78645. | Apr. 15, 2024 | 481597
Travis (FEMA Docket No.: B-2407). | City of Leander (23-06-1536P). | Isaac Turner, City of Leander Interim Manager, P.O. Box 319, Leander, TX 78646. | Engineering Department, 201 North Brushy Street, Leander, TX 78646. | Apr. 15, 2024 | 481536
Travis (FEMA Docket No.: B-2401). | Unincorporated areas of Travis County (23-06-1281P). | The Honorable Andy Brown, Travis County Judge, P.O. Box 1748, Austin, TX 78767. | Travis County Transportation and Natural Resources Department, 700 Lavaca Street, 5th Floor, Austin, TX 78701. | Apr. 1, 2024 | 481026

[FR Doc. 2024-09169 Filed 4-26-24; 8:45 am]

BILLING CODE 9110-12-P